DEPARTMENT OF HEALTH AND HUMAN SERVICES

Administration for Children and Families

Proposed Information Collection Activity; Head Start (HS) Connects: Individualizing and Connecting Families to Family Support Services (New Collection)

AGENCY: Office of Planning, Research, and Evaluation; Administration for Children and Families; HHS.

ACTION: Request for public comment.

SUMMARY: The Administration for Children and Families (ACF) at the U.S. Department of Health and Human Services (HHS) seeks approval to conduct semi-structured, qualitative interviews with Head Start staff, parents/guardians, and community providers at six Head Start programs for case studies that explore case management and coordination of family support services.

DATES: Comments due within 60 days of publication. In compliance with the requirements of Section 3506(c)(2)(A) of the Paperwork Reduction Act of 1995, the Administration for Children and Families is soliciting public comment on the specific aspects of the information collection described above.

ADDRESSES: Copies of the proposed collection of information can be obtained and comments may be forwarded by emailing OPREinfocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION: Description: The case studies proposed as part of the Head Start (HS) Connects: Individualizing and Connecting Families to Family Support Services project are intended to build knowledge about how Head Start programs (Head Start or Early Head Start grantees, delegate agencies, and staff) across the country coordinate family well-being services for parents/guardians and tailor coordination processes to individual family needs. The case studies will explore case management and coordination of family support services from multiple perspectives, including from the perspective of Head Start Administrators/Family and Community Partnerships Managers, Family Support Staff, Other Staff, Parents/Guardians, and Community Providers, at each of the six study sites during site visits. The case studies will further inform the development of design options for a large-scale descriptive study of Head Start programs nationally that is focused on describing how Head Start programs coordinate family support services for parents/guardians.

Respondents: Head Start Administrator/Family and Community Partnerships Manager, Head Start Family Support Staff, Other Head Start Staff, Parents/Guardians, Community Providers.

Annual Burden Estimates:

Instrument | Total/annual number of respondents | Number of responses per respondent | Average burden hours per response | Annual burden hours
Head Start Administrator/Family and Community Partnerships Manager pre-visit call | 6 | 1 | 1 | 6
Head Start Family Support Staff pre-visit call | 18 | 1 | 1 | 18
Head Start Administrator/Family and Community Partnerships Manager interview | 6 | 1 | 2 | 12
Head Start Family Support Staff interview | 18 | 1 | 2.5 | 45
Head Start Other Staff interview | 18 | 1 | 1 | 18
Parent/Guardian interview | 24 | 1 | 2 | 48
Community Providers interview | 12 | 1 | 1 | 12

Estimated Total Annual Burden Hours: 159.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 640(a)(2)(D) and section 649 of the Improving Head Start for School Readiness Act of 2007.

Mary B. Jones,
ACF/OPRE Certifying Officer.

[FR Doc. 2019-12795 Filed 6-17-19; 8:45 am]

BILLING CODE 4184-22-P